DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: This action was issued on September 25, 2025. See Supplementary Information for relevant dates.

FOR FURTHER INFORMATION CONTACT: OFAC: Associate Director for Global Targeting, 202-622-2420; Assistant Director for Sanctions Compliance, 202-622-2490; or https://ofac.treasury.gov/contact-ofac.

SUPPLEMENTARY INFORMATION:

Electronic Availability

The SDN List and additional information concerning OFAC sanctions programs are available on OFAC's website: https://ofac.treasury.gov.

Notice of OFAC Action

On September 25, 2025, OFAC determined that the property and interests in property subject to U.S. jurisdiction of the following persons are blocked under the relevant sanctions authorities listed below.

Individuals

1. AUNG, Tin Myo, Burma; DOB 03 Dec 1972; POB Taungoo, Burma; nationality Burma; Gender Male; Secondary sanctions risk: North Korea Sanctions Regulations, sections 510.201 and 510.210; Transactions Prohibited For Persons Owned or Controlled By U.S. Financial Institutions: North Korea Sanctions Regulations section 510.214; Passport MI361289 (Burma) expires 14 Dec 2028; National ID No. 7TANGANAN097221 (Burma) (individual) [DPRK] [BURMA-EO14014] (Linked To: ROYAL SHUNE LEI COMPANY LIMITED). Designated pursuant to section 1(a)(ii)(F) of Executive Order 13551 of August 30, 2010, “Blocking Property of Certain Persons With Respect to North Korea,” 75 FR 53937, (E.O. 13551), for having acted or purported to act for or on behalf of, directly or indirectly, ROYAL SHUNE LEI COMPANY LIMITED, a person whose property or interests in property are blocked pursuant to E.O. 13551. Designated pursuant to section 1(a)(iii)(D) of Executive Order 14014 of February 10, 2021, “Blocking Property With Respect to the Situation in Burma,” 86 FR 9431, (E.O. 14014), for having been a leader or official of ROYAL SHUNE LEI COMPANY LIMITED, a person whose property and interests in property are blocked pursuant to E.O. 14014 as a result of activities related to the leader's or official's tenure.

2. MYINT, Kyaw Thu Myo, Burma; DOB 10 Jun 1980; nationality Burma; citizen Burma; Gender Male; Secondary sanctions risk: North Korea Sanctions Regulations, sections 510.201 and 510.210; Transactions Prohibited For Persons Owned or Controlled By U.S. Financial Institutions: North Korea Sanctions Regulations section 510.214; Passport MI418505 (Burma) expires 04 Jan 2029 (individual) [DPRK] [BURMA-EO14014].

Designated pursuant to section 1(a)(ii)(G) of E.O. 13551 for having attempted to, directly or indirectly, provide training, advice, or other services or assistance, or engage in financial transactions, related to the manufacture, maintenance, or use of any arms or related materiel to be imported, exported, or reexported to, into, or from North Korea, or following their importation, exportation, or reexportation to, into, or from North Korea.

Designated pursuant to section 1(a)(i) E.O. 14014 for operating in the defense sector of the Burmese economy.

3. OO, Aung Ko Ko, Burma; DOB 10 Jan 1971; nationality Burma; Gender Male; Secondary sanctions risk: North Korea Sanctions Regulations, sections 510.201 and 510.210; Transactions Prohibited For Persons Owned or Controlled By U.S. Financial Institutions: North Korea Sanctions Regulations section 510.214; Passport MI210885 (Burma); National ID No. 12/THAKATA(N)005901 (Burma) (individual) [DPRK] [BURMA-EO14014] (Linked To: ROYAL SHUNE LEI COMPANY LIMITED). Designated pursuant to section 1(a)(ii)(F) of E.O. 13551 for having acted or purported to act for or on behalf of, directly or indirectly, ROYAL SHUNE LEI COMPANY LIMITED, a person whose property or interests in property are blocked pursuant to E.O. 13551.

Designated pursuant to section 1(a)(iii)(D) E.O. 14014 for having been a leader or official of ROYAL SHUNE LEI COMPANY LIMITED, a person whose property and interests in property are blocked pursuant to E.O. 14014 as a result of activities related to the leader's or official's tenure.

Designated pursuant to section 1(a)(ii)(F) of E.O. 13551 for having acted or purported to act for or on behalf of, directly or indirectly, RECONNAISSANCE GENERAL BUREAU, a person whose property and interests in property are blocked pursuant to E.O. 13551.

5. KIM, Yong Ju (a.k.a. KIM, Yo'ng-chu), Beijing, China; DOB 23 Apr 1984; nationality Korea, North; Gender Male; Secondary sanctions risk: North Korea Sanctions Regulations, sections 510.201 and 510.210; Transactions Prohibited For Persons Owned or Controlled By U.S. Financial Institutions: North Korea Sanctions Regulations section 510.214; Passport 108110084 (Korea, North) (individual) [DPRK2] (Linked To: KOREA MINING DEVELOPMENT TRADING CORPORATION).

Designated pursuant to section 1(a)(v) of Executive Order 13687 of January 2, 2015, “Imposing Additional Sanctions With Respect To North Korea,” 80 FR 819, (E.O. 13687), for having acted or purported to act for or on behalf of, directly or indirectly, KOREA MINING DEVELOPMENT TRADING CORPORATION, a person whose property and interests in property are blocked pursuant to E.O. 13687.

Entity

1. ROYAL SHUNE LEI COMPANY LIMITED (a.k.a. PROGRESS TECHNOLOGY SUPPORT COMPANY; a.k.a. PROGRESS TECHNOLOGY SUPPORT COMPANY LIMITED; a.k.a. ROYAL SHUNE LEI; a.k.a. ROYAL SHUNE LEI COMPANY), Building 37, Room 6, Bahosi Housing, Lanmadaw Township, Yangon, Burma; No. 37, Room No. 10, Bahosi Housing 10 Ward, Lanmadaw, Yangon, Burma; No 34/C San Yae Twin Street, Bahan Township, Yangon, Burma; Secondary sanctions risk: North Korea Sanctions Regulations, sections 510.201 and 510.210; Transactions Prohibited For Persons Owned or Controlled By U.S. Financial Institutions: North Korea Sanctions Regulations section 510.214; Organization Established Date 24 Jun 2016; Business Registration Number 102842286 (Burma) [DPRK] [BURMA-EO14014].

Designated pursuant to section 1(a)(ii)(G) of E.O. 13551 for having attempted to, directly or indirectly, provide training, advice, or other services or assistance, or engage in financial transactions, related to the manufacture, maintenance, or use of any arms or related materiel to be imported, exported, or reexported to, into, or from North Korea, or following their importation, exportation, or reexportation to, into, or from North Korea.

Designated pursuant to section 1(a)(i) E.O. 14014 for operating in the defense sector of the Burmese economy.

(Authorities: E.O. 14014, E.O. 13551, E.O. 13687.)

Bradley T. Smith,
Director, Office of Foreign Assets Control.

[FR Doc. 2025-19273 Filed 10-1-25; 8:45 am]

BILLING CODE 4810-AL-P